DEPARTMENT OF TRANSPORTATION

Office of the Secretary

Proposed Cancellation of the Air Taxi Authority of Aero Leasings, Inc. D/B/A Air Florida Airlines

AGENCY: Department of Transportation.

ACTION: Notice of Order to Show Cause (Order 2006-4-7), Docket OST-2001-9214.

SUMMARY: The Department of Transportation is directing all interested persons to show cause why it should not issue an order (1) finding that Aero Leasings, Inc. d/b/a Air Florida Airlines lacks the compliance disposition to hold part 298 exemption authority (2) proposing to cancel its part 298 exemption authority.

DATES: Persons wishing to file objections should do so no later than April 24, 2006.

ADDRESSES: Objections and answers to objections should be filed in Docket OST-2001-9214 and addressed to U.S. Department of Transportation, Docket Operations, (M-30, Room PL-401), 400 Seventh Street, SW., Washington, DC 20590, and should be served upon the parties listed in Attachment A to the order.

FOR FURTHER INFORMATION CONTACT: Mr. Damon D. Walker, Air Carrier Fitness Division (X-56, Room 6401), U.S. Department of Transportation, 400 Seventh Street, SW., Washington, DC 20590, (202) 366-7785.

Dated: April 10, 2006.
Michael W. Reynolds,
Acting Assistant Secretary for Aviation and International Affairs.

[FR Doc. E6-5552 Filed 4-13-06; 8:45 am]

BILLING CODE 4910-62-P